INTERNATIONAL TRADE COMMISSION

[Investigation No. 337-TA-1002]

Certain Carbon and Alloy Steel Products; Institution of Investigation

AGENCY: U.S. International Trade Commission.

ACTION: Notice.

SUMMARY: Notice is hereby given that a complaint was filed with the U.S. International Trade Commission on April 26, 2016, under section 337 of the Tariff Act of 1930, as amended, 19 U.S.C. 1337, on behalf of United States Steel Corporation of Pittsburgh, Pennsylvania. A supplement to the complaint was filed on May 16, 2016. The complaint alleges violations of section 337 based upon the importation into the United States, or in the sale of certain carbon and alloy steel products by reason of: (1) A conspiracy to fix prices and control output and export volumes, the threat or effect of which is to restrain or monopolize trade and commerce in the United States; (2) misappropriation and use of trade secrets, the threat or effect of which is to destroy or substantially injure an industry in the United States; and (3) false designation of origin or manufacturer, the threat or effect of which is to destroy or substantially injure an industry in the United States.

The complainant requests that the Commission institute an investigation and, after the investigation, issue a limited exclusion order and a general exclusion order and cease and desist orders.

ADDRESSES: The complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2016).

Scope of Investigation: Having considered the complaint, the U.S. International Trade Commission, on May 26, 2016, ordered that -

(1) Pursuant to subsection (b) of section 337 of the Tariff Act of 1930, as amended, an investigation be instituted to determine whether there is a violation of subsection (a)(1)(A) of section 337 in the importation into the United States, or in the sale of certain carbon and alloy steel products by reason of: (1) A conspiracy to fix prices and control output and export volumes, the threat or effect of which is to restrain or monopolize trade and commerce in the United States; (2) misappropriation and use of trade secrets, the threat or effect of which is to destroy or substantially injure an industry in the United States; or (3) false designation of origin or manufacturer, the threat or effect of which is to destroy or substantially injure an industry in the United States;

(2) Pursuant to Commission Rule 210.50(b)(1), 19 CFR 210.50(b)(1), the presiding administrative law judge shall take evidence or other information and hear arguments from the parties and other interested persons with respect to the public interest in this investigation, as appropriate, and provide the Commission with findings of fact and a recommended determination on this issue, which shall be limited to the statutory public interest factors set forth in 19 U.S.C. 1337(d)(1), (f)(1), (g)(1);

(3) For the purpose of the investigation so instituted, the following are hereby named as parties upon which this notice of investigation shall be served:

(a) The complainant is: United States Steel Corporation, 600 Grant Street, Pittsburgh, PA 15219-2800.

(b) The respondents are the following entities alleged to be in violation of section 337, and are the parties upon which the complaint is to be served:

Hebei Iron and Steel Group Co., Ltd., 385 Sports South Avenue, Shijiazhuang City, 050023 Hebei Province, China

Hebei Iron & Steel Group Hengshui Strip Rolling Co., Ltd., No. 29 Yuhua West Road, Tangcheng District, Hengshui City, 053000 Hebei Province, China

Hebei Iron & Steel (Hong Kong) International Trade Co., Ltd., Suite 2705, 27th Floor, No. 9 Queen's Road Central, Hong Kong, China

Shanghai Baosteel Group Corporation, Baoshan Iron & Steel Building, 370 Pudian, Pudong New Area, 200122 Shanghai, China

Baoshan Iron & Steel Co., Ltd., Baosteel Administrative Center, No. 885 Fujin Road, Baoshan District, 201900 Shanghai, China

Baosteel America Inc., 85 Chestnut Ridge Road, Montvale, NJ 07645

Jiangsu Shagang Group, Yongxin Road, Zhangjiagang, 215625 Jiangsu Province, China

Jiangsu Shagang International Trade Co., Ltd., 4,5/F, Shagang Building, Jinfeng Town, Zhangjiagang, 215625 Jiangsu Province, China

Anshan Iron and Steel Group, 77 Dong Shan Street, Tie Dong District, Anshan City, 114009 Liaoning Province, China

Angang Group International Trade Corporation, No. 322 South Zhonghua Road, Tiedong District, 114002 Anshan, Liaoning Province, China

Angang Group Hong Kong Co. Ltd., Room 3412-13, 34/F Convention Plaza Office Tower, 1 Harbour Road, Wanchai, Hong Kong, China

Wuhan Iron and Steel Group Corp., Changqian, Qingshan District, 430083 Hubei Province, China

Wuhan Iron and Steel Co., Ltd., 3 Yangang Road, Qingshan District, Wuhan City, 430083 Hubei Province, China

WISCO America Co., Ltd., 2006 Birch Street, Suite 300, Newport Beach, CA 92660

Shougang Group, 68 Shijingshan Road, Shijingshan District, 100041 Beijing, China

China Shougang International Trade & Engineering Corporation, 60 North Street, Xizhimen, Haidian District, Beijing, China

Shandong Iron and Steel Group Co. Ltd., 4 Shuntai Square, No. 2000 Shunhua Road, Jinan City, 250101 Shandong Province, China

Shandong Iron and Steel Co., Ltd., 21 Gongye North Road, Licheng District, Jinan City, 250101 Shandong Province, China

Jigang Hong Kong Holdings Co., Ltd., Room 4206, 42/F, Convention Plaza, 1 Harbour Road, Wan Chai, Hong Kong, China

Jinan Steel International Trade Co., Ltd., 21 Gongye North Road, Licheng District, Jinan City, 250101 Shandong Province, China

Magang Group Holding Co. Ltd., 8 Jiuhuaxi Road, Maanshan City, 243003 Anhui Province, China

Maanshan Iron and Steel Co. Ltd., 8 Jiuhuaxi Road, Maanshan City,243003 Anhui Province, China

Bohai Iron and Steel Group, No. 74 MaChang Road, Heping District, 300050 Tianjin, China

Tianjin Pipe (Group) Corporation, 396 Jintang Highway, Dongli District, 300301 Tianjin Province, China

Tianjin Pipe International Economic & Trading Corporation, 396 Jintang Highway, Dongli District, 300301 Tianjin Province, China

TPCO Enterprise, Inc., 10700 Richmond Avenue, Suite # 302, Houston, Texas 77042

TPCO America Corporation, 5431 Highway 35, Gregory, Texas 78359

Benxi Steel (Group) Co. Ltd., 16 Renmin Road, Pingshan District, Benxi City, 117000 Liaoning Province, China

Benxi Iron and Steel (Group) International Economic and Trading Co. Ltd., 8/F, 9 Dongming Avenue, Pingshan District, Benxi City, 117000 Liaoning Province, China

Hunan Valin Steel Co. Ltd., No. 222 House Road, Changsha City, 410004 Hunan Province, China

Hunan Valin Xiangtan Iron and Steel Co. Ltd., Yuetang Road, Yuetang District, Xiangtan City, 411101 Hunan Province, China

Tianjin Tiangang Guanye Co., Ltd., 1-13 Zhufangyuan, Duwang New City, Beichen District, 300400 Tianjin, China

Wuxi Sunny Xin Rui Science and Technology Co., Ltd., 21 Shixin Road, Dongbeitang, Xishan District, 214000 Wuxi Province, China

Taian JNC Industrial Co., Ltd., 666 Nantianmen Street, Hi-Tech Industry Development Zone, Tai'an City, 271000 Shandong Province, China

EQ Metal (Shanghai) Co., Ltd., Rm. 803, 86 Sibao Road, Sijing Town, Songjiang District, Shanghai, China

Kunshan Xinbei International Trade Co., Ltd., No. 351, Lvzhou Shanyu, Yushan Town, Suzhou, Jiangsu, China

Tianjin Xinhai Trade Co., Ltd., Floor 11, Tonggang Liye Building, Junliangcheng, Dongli District, 300450 Tianjin, China

Tianjin Xinlianxin Steel Pipe Co., Ltd., 8 Juhai Road, Jinghai Development Area, 301600 Tianjin, China

Tianjin Xinyue Industrial and Trade Co., Ltd., Daqiuzhuang Industrial Area, 301606 Tianjin, China

Xian Linkun Materials (Steel Pipe Supplies) Co., Ltd., Compound A8, E-Pang Road, Lianhu District, Xi'an City, 710005 Shaanxi Province, China

(c) The Office of Unfair Import Investigations, U.S. International Trade Commission, 500 E Street SW., Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: May 26, 2016
Lisa R. Barton,
Secretary to the Commission.

[FR Doc. 2016-12935 Filed 6-1-16; 8:45 am]

BILLING CODE 7020-02-P